DEPARTMENT OF THE INTERIOR

Bureau of Land Management

[NV-930-1430-ET; NVN-61415]

Cancellation of Proposed Withdrawal; Nevada

AGENCY: Bureau of Land Management, Interior.

ACTION: Notice.

SUMMARY: The United States Geological Survey, Water Resources Division has cancelled its withdrawal application N-61415 for an administrative site at Carson City, Nevada. The original Notice of Proposed Withdrawal was published as FR Doc. 97-10276, 62 FR 19601, April 22, 1997.

EFFECTIVE DATE: February 15, 2002.

FOR FURTHER INFORMATION CONTACT: Dennis J. Samuelson, BLM Nevada State Office, P.O. Box 12000, Reno, Nevada 89520, 775-861-6532.

SUPPLEMENTARY INFORMATION: The United States Geological Survey, Water Resources Division has cancelled withdrawal application N-61415 (FR Doc. 97-10276, 62 FR 19601, April 22, 1997) for an administrative site. The land remains closed to surface entry and mining due to an overlapping withdrawal (Public Land Order No. 7348).

Dated: January 9, 2002.
Jim Stobaugh,
Lands Team Lead.

[FR Doc. 02-3825 Filed 2-14-02; 8:45 am]

BILLING CODE 4310-HC-P